DEPARTMENT OF THE INTERIOR

Bureau of Land Management

[LLMT040000.L16100000.DP0000.LXSS059E0000]

Notice of Availability of Draft Resource Management Plan and Associated Environmental Impact Statement for the South Dakota Field Office Management Plan Revision, SD

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Resource Management Plan (RMP) and Draft Environmental Impact Statement (EIS) for the South Dakota Field Office and by this notice is announcing the opening of the comment period.

DATES: To ensure that comments will be considered, the BLM must receive written comments on the draft RMP/EIS within 90 days following the date the Environmental Protection Agency publishes its notice of the draft RMP/EIS in the Federal Register. The BLM will announce future meetings or hearings and any other public participation activities at least 15 days in advance through public notices, media releases, and/or mailings.

ADDRESSES: You may submit comments related to the South Dakota Field Office draft RMP/EIS by any of the following methods:

• Email: BLM_MT_South_Dakota_RMP@blm.gov.

• Fax: 605-892-7015.

• South Dakota Field Office, Attn: RMP Project Manager, 310 Roundup Street, Belle Fourche, SD 57717.

Copies of the draft RMP/EIS are available at the South Dakota Field Office at the address above or may be viewed at http://www.blm.gov/mt/st/en/fo/south_dakota_field/rmp.html.

FOR FURTHER INFORMATION CONTACT: Mitch Iverson, RMP Project Manager at 605-892-7008; or Marian Atkins, BLM South Dakota Field Manager, at 605-892-7000, at 310 Roundup Street, Belle Fourche, SD 57717, or via email BLM_MT_South_Dakota_RMP@blm.gov. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The planning area includes lands within the BLM South Dakota Field Office administrative boundaries. The planning area consists of BLM-administered surface lands, totaling 274,239 acres, and BLM-administered Federal mineral estate, totaling 1,715,677 acres. Over 98 percent of the BLM-administered surface and Federal mineral estate in the decision area is located in western South Dakota. Counties with substantial amounts of BLM-administered surface or mineral estate (over 1 percent of the county land base) include Butte, Custer, Fall River, Haakon, Harding, Lawrence, Meade, Pennington, Perkins, and Stanley counties in western South Dakota. Other counties with small amounts of BLM-administered surface or federal minerals (less than 1 percent of the county land base) include Bennett, Bon Homme, Brule, Campbell, Charles Mix, Clark, Clay, Corson, Dewey, Edmunds, Faulk, Gregory, Hand, Hughes, Hyde, Jackson, Jones, Lyman, Marshall, McPherson, Mellette, Potter, Sully, Tripp, Walworth, Yankton, and Ziebach counties in South Dakota. The RMP will fulfill the needs and obligations set forth by NEPA, FLPMA, and BLM management policies. An updated inventory of lands with wilderness characteristics was completed for the RMP planning area and data from the inventory was analyzed in the Draft RMP/EIS. The revised RMP will replace the South Dakota RMP of 1986, as amended, and provide the South Dakota Field Office with an updated framework in which to administer BLM public lands.

The formal scoping period began with the publication of the Notice of Intent (NOI) in the Federal Register on July 19, 2007 (72 FR 39638). From August through October 2007, nine scoping meetings were held across the planning area. In addition to the nine scoping meetings, four open house meetings were held to address the concerns of Native American tribes. During scoping, the BLM requested public input to identify resource issues and concerns, management alternatives, or other ideas to help in determining future land use decisions for the planning area. Initially, the Federal Register NOI announced scoping for both North Dakota and South Dakota RMP revisions; however, based on the diverse planning issues and other management considerations, the South Dakota RMP revision continued ahead, and an RMP revision specific to North Dakota BLM will be addressed at a later date.

The issues raised during scoping included energy development, vegetation management, wildlife habitat, special status species management, Greater Sage-Grouse, travel, access, commercial uses, land tenure adjustments, visual resource management, and climate change. The South Dakota draft RMP/EIS addresses the conservation needs of the Greater Sage-Grouse as part of the joint BLM-U.S. Forest Service national effort to sustain the species and its habitat through multiple land management plans across 10 western states. The BLM invited local, State, Federal, and tribal representatives to participate as cooperating agencies on the South Dakota RMP/EIS. The BLM invited these entities to participate because they have jurisdiction by law or because they could offer special expertise. Eleven cooperating-agency meetings were held from 2008 to 2012. These meetings focused on goals, issues, and the development of management alternatives.

The draft RMP/EIS includes a range of management actions within four management alternatives, including the No Action Alternative. These alternatives are designed to address the goals, management challenges, and issues raised during scoping.

The four alternatives are:

Alternative A: Continues existing management practices (No Action Alternative).

Alternative B: Emphasizes commercial resource development and use while providing adequate levels of resource protection.

Alternative C: Emphasizes conservation of natural resources while providing for compatible development and use.

Alternative D: Provides development opportunities while protecting high value and sensitive resources (Preferred Alternative).

The preferred alternative has been identified as described in 40 CFR 1502.14(e). However, identification of a preferred alternative does not represent the final agency decision. The BLM encourages comments on all alternatives and management actions described in the draft RMP/EIS and will assess and consider public comments properly received.

Pursuant to 43 CFR 1610.7-2(b), this notice announces a concurrent public comment period on proposed Areas of Critical Environmental Concern (ACEC). A total of two ACECs are currently designated in the existing plan and were re-evaluated and addressed in this draft RMP/EIS All alternatives would proposed to maintain the two existing ACECs. The proposed resource use limitations, by alternative for each ACEC is summarized below:

Fort Meade Recreation Area ACEC (6,574 Acres)

• Relevant and Important Values: Historical and archeological.

• Limitations on the Following Uses: Closed to leasable and salable minerals, closed to geophysical exploration, recommended for withdrawal from appropriation under the mining laws.

• Other Restrictions: The area would be a Right-of-Way (ROW) exclusion area except in designated ROW corridors. Motorized vehicle use would be limited to designated roads and trails. Snowmobiles or machines specifically equipped to travel over snow would be prohibited. Closed to construction of new roads except for rerouting of existing roads to address resource impacts or safety issues. The back country byway that traverses the southern portion of the ACEC would continue to be designated as a back country byway.

Fossil Cycad ACEC (320 Acres)

• Relevant and Important Values: Paleontological.

• Proposed Use Limitations: Locatable Federal minerals would be recommended for withdrawal from appropriation under the mining laws. The area would be closed to fluid minerals or have a no surface occupancy and use restriction for fluid minerals within the ACEC depending on the alternative selected. The area would be closed to salable Federal minerals and no sale of forest products would be allowed.

• Other Restrictions: The ACEC would be managed as a ROW avoidance area or ROW exclusion area depending on the alternative selected.

All alternatives propose to maintain the Fort Meade and Fossil Cycad ACECs. Under alternatives B and D, up to 200 acres in the existing Fort Meade ACEC would be made available for land transfer to the U.S. Department of Veterans Affairs for expansion of the Black Hills National Cemetery, up to 50 acres in the existing ACEC would be made available for transfer to the South Dakota National Guard for facilities, and up to 6 acres in the existing ACEC would be made available for transfer to the City of Sturgis. Additional action and appropriate environmental review would occur and could potentially result in a decrease in the size of the Fort Meade ACEC from 6,574 to 6,318 acres.

Alternative A would continue with the present National Register of Historic Places District for the Fort Meade ACEC and would include 3,200 acres. Alternative B would recommend a formal nomination of Fort Meade as a National Register Landmark listing of 6,574 acres. Alternative C would propose to manage Greater Sage-Grouse Protection Priority habitat as an ACEC (93,266 acres). Within this ACEC in this alternative, rights-of-way would be excluded, leasable and salable minerals would be closed, and locatable minerals would be recommended for withdrawal from appropriation under the mining laws. Under Alternative C, Federal minerals in the abandoned Black Hills Army Depot and the former town site of Igloo would be closed to exploration and development of leasable and salable minerals. Alternative C would recommend the revision of the National Register of Historic Places Fort Meade District nomination to incorporate 3,370 additional acres inside the District Boundary and incorporate the entire military reservation. Total acres in the historic district would be changed to 6,574 acres for the Fort Meade ACEC. Alternative D would also nominate the Fort Meade ACEC for National Historic Landmark nomination, contingent on other partnering agency cooperation.

Following the close of the public review and comment period on this draft RMP/EIS, public comments will be used to prepare the BLM South Dakota Field Office Proposed RMP and Final EIS. The BLM will respond to substantive comments received during the draft RMP/EIS review period by making appropriate revisions to the document, or by explaining why a comment did not warrant a change. After comments received on the draft RMP/EIS have been considered and appropriate revisions are made, the BLM will issue the Proposed RMP and Final EIS. A notice of the availability for the Proposed RMP and Final EIS will be published in the Federal Register.

Please note that public comments and information submitted including names, street addresses, and email addresses of persons who submit comments will be available for public review and disclosure at the above address during regular business hours (8 a.m. to 4 p.m.), Monday through Friday, except holidays.

Before including your address, phone number, email address, or other personal identifying information in your comment, be advised that your entire comment—including your personal identifying information—may be made publicly available at any time. While you can ask us in your comment to withhold from public review your personal identifying information, we cannot guarantee that we will be able to do so.

Authority: 40 CFR 1506.6, 40 CFR 1506.10, 43 CFR 1610.2.

Katherine P. Kitchell,
Acting State Director.

[FR Doc. 2013-14029 Filed 6-13-13; 8:45 am]

BILLING CODE 4310-DN-P